CORPORATION FOR NATIONAL AND COMMUNITY SERVICE

Invitation to the Public To Collaborate in Furtherance of Our Agency's Strategic Plan

AGENCY: Corporation for National and Community Service.

ACTION: Notice of invitation to the public.

SUMMARY: The Corporation for National and Community Service (hereinafter the “Corporation”) through this notice informs the public of its policy of inviting potential collaborators to work with the Corporation in achieving the goals set out in its strategic plan. It includes the Corporation's mission statement and a description of the strategic goals and implementation steps that the agency intends on following. This is not a notice of available grant funding or an invitation to apply for grant funding or other financial or material support.

DATES: Collaboration proposals may be submitted at any time until further notice.

ADDRESSES: Collaboration proposals, identified by the Corporation program or strategic goal that is the focus of the proposed activity, may be submitted by any of the following methods:

(1) By mail sent to: Corporation for National and Community Service; Attention: Jonathan Williams, Office of Corporate Relations, Room 10301; 1201 New York Avenue, NW., Washington, DC 20525.

(2) By hand delivery or courier to the Corporation's mailroom at Room 8102C at the mail address given in paragraph (1) above, between 9 a.m. and 4 p.m., Monday through Friday, except Federal holidays.

FOR FURTHER INFORMATION CONTACT: Jonathan Williams at (202) 606-6644, or by e-mail at: jwilliams@cns.gov.

SUPPLEMENTARY INFORMATION: From time to time, the Corporation receives a proposal from a non-government entity interested in collaborating on implementation of one or more initiatives relating to the Corporation's strategic goals as set out in the Strategic Plan. For example, a proposal may involve the Corporation coordinating its grantees to work with the non-government entity in implementing national and community service activities that achieve mutually desirable results. Because such proposals are considered valuable in achieving our strategic goals, by this notice we encourage and invite potential collaborators to study our Strategic Plan and to submit relevant collaboration proposals.

On February 8, 2006, the Corporation released its Strategic Plan for 2006-2010. The plan, which benefited from extensive public input, is a blueprint for increasing the effectiveness of the Corporation's programs and operations, and for defining the unique role that national service can play in building a culture of citizenship, service, and responsibility in America. A link to the full text of the Strategic Plan and related documents may be found under the “About Us” column at the following Web site: http://www.nationalservice.gov/.

Chief elements of the plan include:

• Revised Mission Statement. The Corporation's revised mission statement reads, “Improve lives, strengthen communities, and foster civic engagement through service and volunteering.”

• Statement of Guiding Principles. The plan articulates 10 principles, including putting the needs of local communities first and strengthening the public-private partnerships that underpin all of our programs.

• Identification of Five Focus Areas. The plan identities four focus areas where the Corporation intends to make a significant difference in the next five years: (1) Mobilizing More Volunteers; (2) Ensuring a Brighter Future for All of America's Youth; (3) Engaging Students in Communities; (4) Harnessing Baby Boomers' Experience; and (5) Directing resources to address disaster relief and preparedness. Each focus area requires that the Corporation's programs and initiatives work together to achieve common objectives and measurable targets.

• Blueprint for Managerial Excellence. The plan outlines ways to create and foster shared values that strengthen service delivery and ensure workforce accountability.

If your organization is interested in working with the Corporation in achieving its goals, you are encouraged to submit a collaboration proposal that is tied to the Corporation's Strategic Plan, strategic goals, and related programs and initiatives.

Dated: July 24, 2007.
David Eisner,
Chief Executive Officer.

[FR Doc. E7-14653 Filed 7-27-07; 8:45 am]

BILLING CODE 6050-$$-P